DEPARTMENT OF TRANSPORTATION

Federal Highway Administration

Environmental Impact Statement, San Diego County, California

AGENCY: Federal Highway Administration (FHWA), DOT.

ACTION: Notice of Withdrawal.

SUMMARY: The FHWA is issuing this notice to advise the public that the Notice of Intent to prepare an Environmental Impact Statement (EIS) for the proposed State Route 75/282 Transportation Corridor Project in the city of Coronado in San Diego County, California (Federal Register Vol. 72, No 10; FR Doc E7-491) will be withdrawn.

FOR FURTHER INFORMATION CONTACT: Manuel E. Sanchez, Senior Transportation Engineer/Border Engineer, Federal Highway Administration—California Division, 401 B Street, Suite 800, San Diego, CA 92101, Regular Office Hours: 6:30 a.m. to 4:00 p.m., Telephone: (619) 699-7336, Email: manuel.sanchez@dot.gov, or Bruce L. April, Deputy District Director—Environmental, Caltrans District 11, 4050 Taylor Street, MS 242, San Diego, CA 92110, Regular Office Hours: 8:00 a.m. to 5:00 p.m., Telephone: (619) 688-0100, Email: Bruce_April@dot.ca.gov.

SUPPLEMENTARY INFORMATION: The FHWA, on behalf of the California Department of Transportation (Caltrans) is advising the general public that Caltrans conducted studies of the potential environmental impacts associated with the proposed highway project. The SR-75/282 Transportation Corridor Project is located in San Diego County, west of the San Diego-Coronado Bridge and uses the Fourth Street and Third Street couplet to the naval Station Air Station North Island (NASNI). The project proposed various alternatives to improve traffic congestion encountered along State Routes 75 and 282, which included a Transportation Demand Management/Transportation System Management alternative, Grade Separation alternatives, Cut and Cover Tunnel alternatives and Bored Tunnel alternatives. The distance of the project is approximately 1.5 miles.

Issued on: November 1, 2012.
Manuel E. Sánchez,
Senior Transportation Engineer/Border Engineer, Federal Highway Administration, San Diego, California.

[FR Doc. 2012-27227 Filed 11-6-12; 8:45 am]

BILLING CODE 4910-22-P